DEPARTMENT OF THE INTERIOR

Fish and Wildlife Service

Receipt of Endangered Species Recovery Permit Application and Environmental Analysis on This Permit Application

AGENCY: Fish and Wildlife Service, Interior.

ACTION: Notice of receipt and intent: request for comments.

SUMMARY: The State of Oregon has applied for an enhancement of propagation or survival permit to conduct certain activities with gray wolves (Canis lupus) pursuant to section 10(a)(1)(A) of the Endangered Species Act (ESA). In addition, pursuant to the National Environmental Policy Act (NEPA), this notice advises the public that the U.S. Fish and Wildlife Service “we” or “Service”) intends to conduct an environmental analysis (environmental assessment or environmental impact statement) for Oregon's permit application. We solicit comments from the public and from local, State, and Federal agencies on both the permit request and the environmental analysis.

DATES: We must receive your comments on this permit application and environmental analysis on or before September 11, 2006.

ADDRESSES: Written data or comments should be submitted to the Chief, Endangered Species, Ecological Services, U.S. Fish and Wildlife Service, 911 NE. 11th Avenue, Portland, Oregon 97232-4181 (fax: 503-231-6243). Please refer to the permit number or “Oregon Wolf Permit Analysis” when submitting comments. All comments received, including names and addresses, will become part of the official administrative record and may be made available to the public.

FOR FURTHER INFORMATION CONTACT: Documents and other information submitted with this application or associated with this analysis are available for review, subject to the requirements of the Privacy Act and Freedom of Information Act, by any party who submits a written request for a copy of such documents to the address above (telephone: 503-231-2063). Please refer to the application's permit number or “Oregon Wolf Permit Analysis” when requesting copies of documents.

SUPPLEMENTARY INFORMATION:

Permit No. TE-122636

Applicant: Oregon Department of Fish and Wildlife (ODFW)

The applicant has submitted an application for an ESA 10(a)(1)(A) recovery permit authorizing harassment, relocation, and lethal take of gray wolves in Oregon for the purpose of enhancing their recovery, pursuant to the State of Oregon Wolf Conservation and Management Plan (December 2005) developed in consultation with the Service. This plan provides guidelines for a coordinated and effective response to anticipated situations that may arise as gray wolves migrate into Oregon from adjacent States. ODFW proposes to implement proactive strategies and conduct non-lethal control actions to reduce and/or resolve wolf-livestock conflicts and human safety concerns. If non-lethal efforts are unsuccessful and livestock depredations continue, ODFW requests authorization for employees to conduct lethal control of wolves. Under the ODFW proposal, young-of-the-year (juveniles) captured before October 1, and any lactating females, would be released or relocated rather than killed. No lethal take by private landowners would be authorized by this permit.

Currently, the ODFW is authorized through their section 6 Cooperative Agreement under the ESA to conduct non-lethal gray wolf management actions in Oregon for this species, which is Federally listed as endangered. These actions include trapping, collaring, taking blood and hair samples, harassing, and other forms of take that are not reasonably expected to result in the death or permanent disabling of a wolf.

A practical, responsive management program is essential to enhancing survival of the wolf in the wild (Service 1987; Service 1994; Service 1999). The program must respond to wolf-livestock conflicts, while promoting wolf recovery objectives. If issued, Oregon's permit would provide standards for: (a) Determining problem wolf status (including investigative procedures and criteria), (b) conducting wolf control actions, and (c) disposition of problem wolves.

In addition to evaluation under the ESA, we are analyzing issuance of this permit under NEPA (42 U.S.C. 4321 et seq.). Some environmental impacts of wolf management were analyzed in our 1988 Environmental Action Memorandum on the Interim Wolf Control Plan for the Northern Rocky Mountains and the 1999 Evaluation and Recommended Modifications to it. Our environmental analysis for ODFW's permit application will include changes in the gray wolf's population status since 1999 and other issues specific to Oregon.

Under NEPA, a reasonable range of alternatives to a proposed project must be developed and considered in our environmental review, along with a no-action alternative. Our NEPA evaluation will evaluate the potential impacts of alternatives for wolf conservation actions in Oregon. Management actions would be developed to conserve wolf populations and to protect livestock and pets. An alternative will be selected and a permit decision made after completion of all required analyses and consideration of all comments received in response to this Notice.

Any wolves existing in Oregon would likely be due to range expansion of the northern Rocky Mountains wolf population. However, the State of Oregon has established its own wolf population objectives. These population objectives are documented in the Oregon Wolf Conservation and Management Plan, which can be found at: http://www.dfw.state.or.us/wolves/. The ODFW permit application can be found at: http://www.fws.gov/pacific/ecoservices/endangered/recovery/default.htm.

Additional information about wolf recovery and conservation in the northwestern United States, including control of problem wolves, can be found in various reports at: http://westerngraywolf.fws.gov/.

Public Comments Solicited

We solicit public review and comment on this ESA recovery permit application and related NEPA environmental review. Our practice is to make comments, including names and home addresses of respondents, available for public review during regular business hours. Individual respondents may request that we withhold their home addresses from the record, which we will honor to the extent allowable by law. There also may be circumstances in which we would withhold from the record a respondent's identity, to the extent allowable by law. If you wish us to withhold your name and/or address, you must state this prominently at the beginning of your comment, but you should be aware that we may be required to disclose your name and address pursuant to the Freedom of Information Act. Moreover, we will not consider anonymous comments. We will make all submissions from organizations or businesses, and from individuals identifying themselves as representatives or officials of organizations or businesses, available for public inspection in their entirety. Comments and materials received will be available for public inspection, by appointment, during normal business hours at the above address.

Authority

This document is published under the authority of the Endangered Species Act of 1973, as amended (16 U.S.C. 1531 et seq.).

Dated: June 19, 2006.
David J. Wesley,
Regional Director, Region 1, U.S. Fish and Wildlife Service.

[FR Doc. E6-13132 Filed 8-10-06; 8:45 am]

BILLING CODE 4310-55-P